DEPARTMENT OF AGRICULTURE

Forest Service

Lawrence County Resource Advisory Committee

AGENCY: Forest Service, USDA.

ACTION: Notice of meeting.

SUMMARY: The Lawrence County Resource Advisory Committee will meet in Spearfish, South Dakota. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 11, 2012, at 5:00 p.m.

ADDRESSES: The meeting will be held at the Northern Hills Ranger District Office located at 2014 N. Main, Spearfish, SD 57783.

Written comments may be submitted as described under SUPPLEMENTARY INFORMATION. All comments, including names and addresses when provided, are placed in the record and are available for public inspection and copying. The public may inspect comments received at the Northern Hills Ranger District Office. Please call ahead to 605-642-4622 to facilitate entry into the building to view comments.

FOR FURTHER INFORMATION CONTACT: Rhonda O'Byrne, District Ranger, Northern Hills Ranger District, 605-642-4622 or rlobyrne@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: review and recommend projects for approval. Anyone who would like to bring related matters to the attention of the committee may file written statements with the committee staff before or after the meeting. The agenda will include time for people to make oral statements of three minutes or less. Individuals wishing to make an oral statement should request in writing by Friday, September 8, 2012 to be scheduled on the agenda. Written comments and requests for time for oral comments must be sent to Rhonda O'Byrne, District Ranger, 2014 N. Main, Spearfish, SD 57783, or by email to rlobyrne@fs.fed.us, or via facsimile to 605-642-4156. A summary of the meeting will be posted at https://fsplaces.fs.fed.us/fsfiles/unit/wo/secure_rural_schools.nsf/RAC/Lawrence?OpenDocument within 21 days of the meeting.

Meeting Accommodations: If you require sign language interpreting, assistive listening devices or other reasonable accommodation for access to the meeting please request this in advance by contacting the person listed in the section titled FOR FURTHER INFORMATION CONTACT. All reasonable accommodation requests are managed on a case by case basis.

Dated: August 17, 2012.
Craig Bobzien,
Forest Supervisor.

[FR Doc. 2012-20849 Filed 8-23-12; 8:45 am]

BILLING CODE 3410-11-P